SECURITIES AND EXCHANGE COMMISSION

[Release No. 34-72955; File No. SR-EDGX-2014-05]

Self-Regulatory Organizations; EDGX Exchange, Inc.; Notice of Withdrawal of Proposed Rule Change To Adopt a New Order Type Called the Mid-Point Discretionary Order

September 2, 2014.

On March 7, 2014, EDGX Exchange, Inc. (“Exchange” or “EDGX”) filed with the Securities and Exchange Commission (“Commission”), pursuant to Section 19(b)(1) of the Securities Exchange Act of 1934 (“Act”) ¹ and Rule 19b-4 thereunder,² a proposed rule change to amend its rules to add a new order type called the Mid-Point Discretionary Order (“MDO”) and to reflect the priority of MDOs. The proposed rule change was published for comment in the Federal Register on March 25, 2014.³ On May 2, 2014, the Commission extended the time period in which to either approve or disapprove the proposed rule change to June 23, 2014.⁴ On June 20, 2014, the Commission instituted proceedings to determine whether to approve or disapprove the proposed rule change.⁵ The Commission received no comment letters on the proposed rule change. On August 22, 2014, EDGX withdrew the proposed rule change (SR-EDGX-2014-05).

¹ 15 U.S.C. 78s(b)(1).

² 17 CFR 240.19b-4.

³ See Securities Exchange Act Release No. 71747 (March 19, 2014), 79 FR 16401.

⁴ See Securities Exchange Act Release No. 72086 (May 2, 2014), 79 FR 26473 (May 8, 2014).

⁵ See Securities Exchange Act Release No. 72445 (June 20, 2014), 79 FR 36354 (June 26, 2014).

For the Commission, by the Division of Trading and Markets, pursuant to delegated authority.⁶
⁶ 17 CFR 200.30-3(a)(31).
Kevin M. O'Neill,
Deputy Secretary.

[FR Doc. 2014-21248 Filed 9-5-14; 8:45 am]

BILLING CODE 8011-01-P